FEDERAL COMMUNICATIONS COMMISSION

Information Collections Being Submitted for Review and Approval to the Office of Management and Budget

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before June 11, 2012. If you anticipate that you will be submitting comments, but find it difficult to do so within the period of time allowed by this notice, you should advise the contact listed below as soon as possible.

ADDRESSES: Direct all PRA comments to the Federal Communications Commission via email to PRA@fcc.gov and Cathy.Williams@fcc.gov.

FOR FURTHER INFORMATION CONTACT: For additional information about the information collection, contact Cathy Williams at (202) 418-2918.

SUPPLEMENTARY INFORMATION: OMB Control Number: 3060-0214.

Title: Sections 73.3526 and 73.3527, Local Public Inspection Files; Sections 76.1701 and 73.1943, Political Files.

Form Number: Not applicable.

Type of Review: Revision of a currently approved collection.

Respondents/Affected Parties: Business or other for-profit entities; Not for-profit institutions; Individuals or households.

Number of Respondents and Responses: 24,558 respondents; 59,056 responses.

Estimated Time per Response: 1 hour to 104 hours.

Frequency of Response: On occasion reporting requirement; Recordkeeping requirement; Third party disclosure requirement.

Obligation to Respond: Required to obtain or retain benefits. The statutory authority for this collection of information is contained in 47 U.S.C. 151, 152, 154(i), 303, 307 and 308.

Total Annual Burden: 2,158,080 hours.

Total Annual Costs: $882,236.00.

Privacy Act Impact Assessment: The FCC is preparing a PIA.

Nature and Extent of Confidentiality: The FCC is preparing a system of records, FCC/MB-2, “Broadcast Station Public Inspection Files,” to cover the personally identifiable information (PII) that may be included in the broadcast station public inspection files. Respondents may request materials or information submitted to the Commission be withheld from public inspection under 47 CFR 0.459 of the Commission's rules.

Needs and Uses: The Commission is seeking final approval of the information collection requirements that were adopted in FCC 12-44 and contained in collection 3060-0214 from the Office of Management and Budget (OMB). On April 27, 2012, the Commission released a Second Report and Order, MB Docket Nos. 00-168 and 00-44; FCC 12-44. This Order adopted information collection requirements that support the Commission's public file rules that are codified at 47 CFR 73.3526 and 73.3527. 47 CFR 73.3526 and 73.3527 require that licensees and permittees of commercial and noncommercial AM, FM and TV stations maintain a file for public inspection at its main studio or at another accessible location in its community of license. The contents of the file vary according to type of service and status. The contents include, but are not limited to, copies of certain applications tendered for filing, a statement concerning petitions to deny filed against such applications, copies of ownership reports, statements certifying compliance with filing announcements in connection with renewal applications, a list of donors supporting specific programs, and a list of community issues addressed by the station's programming.

These rules also specify the length of time, which varies by document type, that each record must be retained in the public file. The public and FCC use the data to evaluate information about the licensee's performance and to ensure that station is addressing issues concerning the community to which it is licensed to serve.

The information collection requirements consist of:

Pursuant to 47 CFR 73.1943(d), television station licensees or applicants must place the contents of its political file on the Commission's Web site on a going-forward basis. Pursuant to 47 CFR 73.3526(b), commercial television station licensees or applicants must place the contents of their public inspection file as required by 47 CFR 73.3526(e) on the Commission's Web site, with the exception of letters and emails from the public as required by 47 CFR 73.3526(e)(9), which will be retained at the station. A station must also link to the public inspection file hosted on the Commission's Web site from the home page of its own Web site, if the station has a Web site. The Commission will automatically link the following items to the electronic version of all licensee and applicant public inspection files, to the extent that the Commission has these items electronically: authorizations, applications, contour maps; ownership reports and related materials; portions of the Equal Employment Opportunity file held by the Commission; the public and broadcasting; Children's television programming reports; and DTV transition education reports.

Pursuant to 47 CFR 73.3527(b) non-commercial educational television station licensees or applicants must place the contents of their public inspection file as required by 47 CFR 73.3527(e) on the Commission's Web site. A station must also link to the public inspection file hosted on the Commission's Web site from the home page of its own Web site, if the station has a Web site. The Commission will automatically link the following items to the electronic version of all licensee and applicant public inspection files, to the extent that the Commission has these items electronically: contour maps; ownership reports and related materials; portions of the Equal Employment Opportunity file held by the Commission; and the public and broadcasting.

OMB Control Number: 3060-0174.

Title: Sections 73.1212, 76.1615 and 76.1715, Sponsorship Identification.

Form Number: N/A.

Type of Review: Revision of a currently approved collection.

Respondents/Affected Parties: Business or other for profit entities; Individuals or households.

Number of Respondents and Responses: 22,761 respondents and 1,831,610 responses.

Estimated Time per Response: .0011 to .2011 hours.

Frequency of Response: Recordkeeping requirement; Third party disclosure; On occasion reporting requirement.

Total Annual Burden: 242,633 hours.

Total Annual Cost: $33,828.

Obligation to Respond: Required to obtain or retain benefits. The statutory authority for this collection is contained in sections 4(i), 317 and 507 of the Communications Act of 1934, as amended.

Nature and Extent of Confidentiality: The FCC is preparing a system of records, FCC/MB-2, “Broadcast Station Public Inspection Files,” to cover the personally identifiable information (PII) that may be included in the broadcast station public inspection files. Respondents may request materials or information submitted to the Commission be withheld from public inspection under 47 CFR 0.459 of the Commission's rules.

Privacy Impact Assessment(s): The FCC is preparing a PIA.

Needs and Uses: The Commission is seeking final approval of the information collection requirements that were adopted in FCC 12-44 and contained in collection 3060-0174 from the Office of Management and Budget (OMB). On April 27, 2012, the Commission released a Second Report and Order, MB Docket Nos. 00-168 and 00-44; FCC 12-44. This Second Report and Order adopted information collection requirements that will change the availability of record disclosures under 47 CFR 73.1212. 47 CFR 73.1212(e) states that, when an entity rather than an individual sponsors the broadcast of matter that is of a political or controversial nature, the licensee is required to retain a list of the executive officers, or board of directors, or executive committee, etc., of the organization paying for such matter in its public file.

The information collection requirements consist of:

Pursuant to the changes contained in 47 CFR 73.1212(e), this list, which could contain personally identifiable information, would be located in a public file to be located on the Commission's Web site instead of being maintained in the public file at the station. Burden estimates for this change are included in OMB Control Number 3060-0214.

Federal Communications Commission.
Bulah P. Wheeler,
Deputy Manager, Office of the Secretary, Office of Managing Director.

[FR Doc. 2012-11435 Filed 5-10-12; 8:45 am]

BILLING CODE 6712-01-P